FEDERAL COMMUNICATIONS COMMISSION

47 CFR Part 73

[DA 07-3478; MB Docket No. 05-245; RM-111264, RM-11357]

Radio Broadcasting Services; Animas, NM; Corona de Tucson, AZ; Lordsburg, NM; Sierra Vista, Tanque Verde and Vail, AZ; and Virden, NM

AGENCY: Federal Communications Commission

ACTION: Final rule.

SUMMARY: In response to the Counterproposal filed by Cochise Broadcasting, LLC and Desert West Air Ranchers Corporation, this document reallots Channel 267C3 from Corona de Tucson to Tanque Verde, Arizona, and modifies the license of Station KKYZ to specify Tanque Verde as the community of license. To continue local service at Corona de Tucson, it reallots Channel 253A from Vail, Arizona, to Corona de Tucson, and modifies the Station KRDX license to specify Corona de Tucson as the community of license. To replace local service at Vail, it substitutes Channel 279A for Channel 279C1 at Lordsburg, New Mexico, reallots Channel 279A to Vail, and modifies the outstanding construction permit (File No. BNPH-20050609ABD) to specify operation on Channel 279A at Vail. Finally, it allots Channel 279C1 to Animas, New Mexico, and Channel 228C1 to Virden, New Mexico, as first local services. The reference coordinates for the Channel 267C3 allotment at Tanque Verde, Arizona, are 32-19-59 and 110-45-19. The reference coordinates for the Channel 253A allotment at Corona de Tucson, Arizona, are 32-55-39 and 110-37-57. The reference coordinates for the Channel 279A allotment at Vail, Arizona, are 31-58-16 and 110-35-59. The reference coordinates for the Channel 279C1 allotment at Animas, New Mexico, are 31-56-50 and 108-28-45. The reference coordinates for the Channel 228C1 allotment at Virden, New Mexico, are 32-24-12 and 108-53-59. With this action, this proceeding is terminated.

DATES: Effective September 20, 2007.

FOR FURTHER INFORMATION CONTACT: Robert Hayne, Media Bureau (202) 418-2177.

SUPPLEMENTARY INFORMATION: This is a synopsis of the Report and Order in MB Docket No. 05-245, adopted July 30, 2007, and released July 31, 2007. The full text of this decision is available for inspection and copying during normal business hours in the FCC Reference Information Center at Portals II, CY-A257, 445 12th Street, SW., Washington, DC 20554. The complete text of this decision may also be purchased from the Commission's copy contractor, Best Copying and Printing, Inc. 445 12th Street, SW., Room CY-B402, Washington, DC 20554, telephone 1-800-378-3160 or http://www.BCPIWEB.com. The Commission will send a copy of this Report and Order in a report to Congress and the Government Accountability Office pursuant to the Congressional Review Act, see 5 U.S.C. 801(a)(1)(A).

List of Subjects in 47 CFR Part 73

Radio, Radio broadcasting.

As stated in the preamble, the Federal Communications Commission amends 47 CFR part 73 as follows:

PART 73—RADIO BROADCAST SERVICES

1. The authority citation for part 73 continues to read as follows:

Authority: 47 U.S.C. 154, 303, 334, 336.

§ 73.202(b) [Amended]

2. Section 73.202(b), the Table of FM Allotments under New Mexico, is amended by adding Animas, Channel 279C1 and by adding Virden, Channel 228C1.

Federal Communications Commission.
John A. Karousos,
Assistant Chief, Audio Division, Media Bureau.

[FR Doc. E7-18499 Filed 9-19-07; 8:45 am]

BILLING CODE 6712-01-P